DEPARTMENT OF JUSTICE

Notice of Lodging of Consent Decree Under the Safe Drinking Water Act

Notice is hereby given that on October 2, 2009, a proposed consent decree in United States v. East Shoshone County Water District, Civil Action No. 09-00499-EJL, was lodged with the United States District Court for the District of Idaho.

In this action the United States sought injunctive relief and a civil penalty for violations of the Safe Drinking Water Act at the East Shoshone County Water District's public water system in Burke Canyon near Wallace, Idaho. The Water District has agreed to install a filtration system and to perform other injunctive relief. Additionally, the Water District will pay a $5,000 civil penalty and will perform an environmental project that is estimated to cost approximately $20,000.

The Department of Justice will receive for a period of thirty (30) days from the date of this publication comments relating to the decree. Comments should be addressed to the Assistant Attorney General, Environment and Natural Resources Division, and either emailed to pubcomment-ees.enrd@usdoj.gov or mailed to P.O. Box 7611, U.S. Department of Justice, Washington, DC 20044-7611, and should refer to United States v. East Shoshone County Water District, Civil Action No. 09-00499-EJL, DOJ Ref. 90-5-1-1-08453.

During the public comment period, the consent decree may be examined on the following Department of Justice Web site: http://www.usdoj.gov/enrd/Consent_Decrees.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury or, if by email or fax, forward a check in that amount to the Consent Decree Library at the stated address.

Maureen M. Katz,
Assistant Chief, Environmental Enforcement Section, Environment and Natural Resources Division.

[FR Doc. E9-25076 Filed 10-16-09; 8:45 am]

BILLING CODE 4410-15-P